DEPARTMENT OF AGRICULTURE

U.S. Codex Office

Codex Alimentarius Commission: Meeting of the Codex Committee on Nutrition and Foods for Special Dietary Uses (CCNFSDU)

AGENCY: U.S. Codex Office, USDA.

ACTION: Notice of public meeting and request for comments.

SUMMARY: The U.S Codex Program is sponsoring a public meeting on Tuesday, November 6, 2018. The objective of the public meeting is to provide information and receive public comments on agenda items and draft United States (U.S.) positions to be discussed at the 40th session of the Codex Committee on Nutrition and Foods for Special Dietary Uses (CCNFSDU) of the Codex Alimentarius Commission in Berlin, Germany November 26-30, 2018. The U.S. Manager for Codex Alimentarius and the Under Secretary, Office of Trade and Foreign Agricultural Affairs, recognize the importance of providing interested parties the opportunity to obtain background information on the 40th Session of the CCNFSDU and to address items on the agenda.

DATES: The public meeting is scheduled for Tuesday, November 6, 2018 from 1:00 p.m. to 3:00 p.m.

ADDRESSES: The public meeting will take place at the Food and Drug Administration (FDA) Center for Food Safety and Applied Nutrition, Wiley Building, Room 1A002, 55 Campus Drive, College Park, MD 20740.

Documents related to the 40th Session of the CCNFSDU will be accessible via the internet at the following address: http://www.codexalimentarius.org/meetings-reports/en.

Dr. Douglas Balentine, U.S. Delegate to the 40th Session of the CCNFSDU, invites U.S. interested parties to submit their comments electronically to the following email address: douglas.balentine@fda.hhs.gov.

Call-In-Number: If you wish to participate in the public meeting for the 40th Session of the CCNFSDU by conference call, please use the call-in-number listed below:

Call-In-Number: 1-877-465-7975—U.S. Toll Free.

The participant code will be posted on the web page below: http://www.fsis.usda.gov/wps/portal/fsis/topics/international-affairs/us-codex-alimentarius/public-meetings.

FOR FURTHER INFORMATION CONTACT:

About the 40th Session Of the CCNFSDU: Doug Balentine, Director, Office of Nutrition and Food Labelling, Center for Food Safety and Applied Nutrition, U.S. Food and Drug Administration, 5001 Campus Drive (HFS-830), College Park, MD 20740. Phone: +1 240 402 2373. Fax: +1 (301) 436-2636. Email: Douglas.Balentine@fda.hhs.gov.

About the Public Meeting: Doreen Chen-Moulec, U.S. Codex Office, 1400 Independence Avenue SW, Room 4861, South Agriculture Building, Washington, DC 20250, Phone: (202) 720-4063, Fax: (202) 720-3157, Email: Doreen.Chenmoulec@osec.usda.gov.

SUPPLEMENTARY INFORMATION:

Registration

Attendees may register to attend the public meeting by emailing doreen.chenmoulec@osec.usda.gov by October 24, 2018.

Early registration is encouraged because it will expedite entry into the building. The meeting will take place in a Federal building. Attendees should bring photo identification and plan for adequate time to pass through the security screening systems. Attendees who are not able to attend the meeting in person, but who wish to participate, may do so by phone, as discussed above.

Background

Codex was established in 1963 by two United Nations organizations, the Food and Agriculture Organization (FAO) and the World Health Organization (WHO). Through adoption of food standards, codes of practice, and other guidelines developed by its committees, and by promoting their adoption and implementation by governments, Codex seeks to protect the health of consumers and ensure fair practices in the food trade.

The CCNFSDU is responsible for:

(a) Studying nutrition issues referred to it by the Codex Alimentarius Commission;

(b) Drafting general provisions, as appropriate, on nutritional aspects of all foods and developing standards, guidelines, and related texts for foods for special dietary uses, in cooperation with other committees where necessary; and

(c) Considering, amending if necessary, and endorsing provisions on nutritional aspects proposed for inclusion in Codex standards, guidelines, and related texts.

The CCNFSDU is hosted by Germany. The U.S. attends CCNFSDU as a member country of Codex.

Issues To Be Discussed at the Public Meeting

The following items on the Agenda for the 40th Session of the CCNFSDU will be discussed during the public meeting:

• Matters referred by the Codex Alimentarius Commission and its subsidiary bodies

• Matters of Interest Arising from FAO and WHO:

○ Review of the Standard for Follow-up Formula (CXS 156-1987)1

Comments in reply to CL 2018/62-NFSDU

○ Review of the Standard for Follow-up Formula (CXS 156-1987)2

Comments in reply to CL 2018/63-NFSDU

○ Proposed Draft Guideline for Ready-to-use Therapeutic Foods

Comments at in reply to CL 2018/64-NFSDU

○ Proposed Draft Definition for Biofortification

Comments in reply to CL 2018/65-NFSDU

○ Proposed Draft NRV-NCD for EPA and DHA long chain omega-3 fatty acids

Comments in reply to CL 2018/66-NFSDU

○ Proposed draft Claim for “free” of Trans Fatty Acids

Comments in reply to CL 2017/89/OCS-NFSDU

○ Discussion paper of NRV-R for older infants and young children

○ Discussion paper on mechanism/framework for considering the technological justification of food additives

○ Discussion paper on harmonized probiotic guidelines for use in foods and dietary supplements

○ Discussion paper on general guidelines to establish nutritional profiles

• Other Business and Future Work.

Each issue listed will be fully described in documents distributed, or to be distributed by the Secretariat before the Committee meeting. Members of the public may access or request copies of these documents (see ADDRESSES).

Public Meeting

At the Tuesday, November 6, 2018 public meeting, draft U.S. positions on the agenda items will be described and discussed, and attendees will have the opportunity to pose questions and offer comments. Written comments may be offered at the meeting or sent to Douglas Balentine, U.S. Delegate for the 40th Session of the CCNFSDU (see ADDRESSES). Written comments should state that they relate to activities of the 40th Session of the CCNFSDU.

Additional Public Notification

Public awareness of all segments of rulemaking and policy development is important. Consequently, the U.S. Codex Office will announce this Federal Register publication on-line through the FSIS web page located at: http://www.fsis.usda.gov/federal-register. The U.S. Codex Office also offers an email subscription service which provides automatic and customized access to selected food safety news and information. This service is available at: http://www.fsis.usda.gov/subscribe. Options range from recalls to export information, regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email. Mail: U.S. Department of Agriculture, Director, Office of Adjudication, 1400 Independence Avenue SW, Washington, DC 20250-9410.

Fax: (202) 690-7442, Email: program.intake@usda.gov.

Persons with disabilities who require alternative means for communication (Braille, large print, audiotape, etc.) should contact USDA's TARGET Center at (202) 720-2600 (voice and TDD).

Done at Washington, DC, on September 14th, 2018.
Mary Lowe,
U.S. Manager for Codex Alimentarius.

[FR Doc. 2018-20443 Filed 9-19-18; 8:45 am]

BILLING CODE P